DEPARTMENT OF HOMELAND SECURITY

Federal Emergency Management Agency

[Docket ID: FEMA-2007-0008]

National Advisory Council Meeting

AGENCY: Federal Emergency Management Agency, DHS.

ACTION: Notice of the National Advisory Committee meeting.

SUMMARY: This notice announces the date, time, location, and agenda for the next meeting of the National Advisory Council (NAC). At the meeting, the subcommittees will report on their work since the February 10-11, 2010 meeting. This meeting will be open to the public.

DATES: Meeting Dates: Wednesday, August 4, 2010, from approximately 10 a.m. MST to 5:45 p.m. MST and Thursday, August 5, 2010, 8:30 a.m. MST to 3:30 p.m. MST. A public comment period will take place on the afternoon of August 5, 2010, between approximately 2:30 p.m. MST and 3 p.m. MST.

Comment Date: Persons wishing to make an oral presentation, or who are unable to attend or speak at the meeting, may submit written comments. Written comments or requests to make oral presentations must be received by July 26, 2010.

ADDRESSES: The meeting will be held at the Curtis Hotel, 1405 Curtis Street, Denver, CO 80202. Written comments and requests to make oral presentations at the meeting should be provided to the address listed in the FOR FURTHER INFORMATION CONTACT section and must be received by July 26, 2010. All submissions received must include the Docket ID FEMA-2007-0008 and may be submitted by any one of the following methods:

Federal Rulemaking Portal: http://www.regulations.gov. Follow the instructions for submitting comments on the Web site.

E-mail: FEMA-RULES@dhs.gov. Include Docket ID FEMA-2007-0008 in the subject line of the message.

Facsimile: (703) 483-2999.

Mail: Office of Chief Counsel, Federal Emergency Management Agency (Room 835), 500 C Street, SW., Washington, DC 20472-3100.

Hand Delivery/Courier: Office of Chief Counsel, Federal Emergency Management Agency (Room 835), 500 C Street, SW., Washington, DC 20472-3100.

Instructions: All submissions received must include the Docket ID FEMA-2007-0008. Comments received also will be posted without alteration at http://www.regulations.gov, including any personal information provided.

Docket: For access to the docket to read documents or comments received by the National Advisory Council, go to http://www.regulations.gov.

FOR FURTHER INFORMATION CONTACT: Alyson Price, Designated Federal Officer, Federal Emergency Management Agency (Room 832), 500 C Street, SW., Washington, DC 20472-3100, telephone 202-646-3746, fax 202-646-3930, and e-mail mailto: FEMA-NAC@dhs.gov. The NAC Web site is located at: http://www.fema.gov/about/nac/.

SUPPLEMENTARY INFORMATION: Notice of this meeting is required under the Federal Advisory Committee Act (FACA), Public Law 92-463, as amended (5 U.S.C. App. 1 et seq.). The National Advisory Council (NAC) will meet for the purpose of reviewing the progress and/or potential recommendations of the following NAC subcommittees: Preparedness and Protection, Response and Recovery, Public Engagement and Mission Support, and Federal Insurance and Mitigation. The Council may receive updates on response, recovery, preparedness, mitigation and Federal insurance issues, and on the Regional Advisory Councils.

Public Attendance: The meeting is open to the public. Please note that the meeting may adjourn early if all business is finished. Persons with disabilities who require special assistance should advise the Designated Federal Officer of their anticipated special needs as early as possible. Members of the public who wish to make comments on Thursday, August 5, 2010 between 2:30 p.m. MST and 3 p.m. MST are requested to register in advance, and if the meeting is running ahead of schedule the public comment period may take place as early as 11 a.m. MST; therefore, all speakers must be present and seated by 10:45 a.m. MST. In order to allow as many people as possible to speak, speakers are requested to limit their remarks to 3 minutes. For those wishing to submit written comments, please follow the procedure noted above. In certain weather circumstances, a teleconference line for members of the public to call in may be set up.

Dated: July 13, 2010.
W. Craig Fugate,
Administrator, Federal Emergency Management Agency.

[FR Doc. 2010-17506 Filed 7-16-10; 8:45 am]

BILLING CODE 9111-48-P